DEPARTMENT OF LABOR

Employment and Training Administration

[TA-W-36,453]

Diamond Offshore Drilling, Inc., Houston, Texas and Operating at Various Offshore Drilling Sites Located in American Waters; Amended Certification Regarding Eligibility To Apply for Worker Adjustment Assistance

In accordance with section 223 of the Trade Act of 1974 (19 U.S.C. 2273) the Department of Labor issued a Certification of Eligibility to Apply for Worker Adjustment Assistance on July 13, 1999, applicable to workers of Diamond Offshore Drilling, Inc., Houston, Texas. The notice was published in the Federal Register on August 11, 1999 (64 FR 43724).

At the request of the company, the Department reviewed the certification for workers of the subject firm. The company reports that worker separations have occurred at Diamond Offshore Drilling operating at various offshore drilling sites located in American waters. The workers are engaged in activities related to the exploration and drilling of crude oil and natural gas.

Accordingly, the Department is amending the certification to include workers operating at various offshore drilling sites located in American waters.

The intent of the Department's certification is to include all workers of Diamond Offshore Drilling, Inc. who were adversely affected by increased imports.

The amended notice applicable to TA-W-36,453 is hereby issued as follows:

All workers of Diamond Offshore Drilling, Inc., Houston, Texas and operating at various offshore drilling sites located in American waters who became totally or partially separated from employment on or after June 6, 1998 through July 13, 2001 are eligible to apply for adjustment assistance under Section 223 of the Trade Act of 1974.

Signed at Washington, DC this 3rd day of November 2000.
Linda G. Poole,
Certifying Officer, Division of Trade Adjustment Assistance.

[FR Doc. 00-29368 Filed 11-15-00; 8:45 am]

BILLING CODE 4510-30-M